DEPARTMENT OF TRANSPORTATION

Federal Transit Administration

Announcement of Fiscal Year 2022 Low or No Emission Program and Grants for Buses and Bus Facilities Program and Project Selections; Correction

AGENCY: Federal Transit Administration (FTA), U.S. Department of Transportation (DOT).

ACTION: Notice; correction.

SUMMARY: On August 18, 2022, the Federal Transit Administration (FTA) published a notice in the Federal Register announcing project selections for the Fiscal Year 2022 Low or No Emission (Low-No) Vehicle Program. This notice provides a correction to eight project descriptions.

FOR FURTHER INFORMATION CONTACT: For general information about this notice contact Amy Volz, Program Manager, Office of Transit Programs, at amy.volz@dot.gov, or (202) 366-7484. Please contact the appropriate FTA Regional Office for any specific requests for information or technical assistance. FTA Regional Office contact information is available at: https://www.transit.dot.gov/about/regional-offices/regional-offices.

SUPPLEMENTARY INFORMATION: The Bipartisan Infrastructure Law, enacted as the Infrastructure Investment and Jobs Act (Pub. L. 117-58), requires that 25 percent of the funding made available for the Low or No Emission Program each year be awarded to low-emission projects. In order to help meet this requirement, FTA selected eight projects which applied for a mixture of low-emission and zero-emission components, only funding the low-emission components of the project. The notice, published on August 18, 2022, 87 FR 50916, which included the list of selected projects, did not make this distinction in the project descriptions. The following table contains the corrections to the project descriptions found in Table 1 “FY 2022 Low or No Emission Project Selections” in the prior publication.

State | Recipient | Project ID | Project description | Allocation
AL | Birmingham-Jefferson County Transit Authority | D2022-LWNO-003 | Purchase CNG vehicles and associated infrastructure | $13,654,636
CA | Fresno, City of | D2022-LWNO-013 | Replace vehicles with CNG vehicles | 17,367,042
IL | Rockford Mass Transit District | D2022-LWNO-039 | Replace diesel buses with hybrid electric buses | 6,328,980
MA | Massachusetts Department of Transportation (MassDOT) | D2022-LWNO-049 | Replace diesel buses with propane buses | 4,143,750
MS | City of Jackson | D2022-LWNO-062 | Purchase hybrid electric buses | 8,714,400
NC | City of Fayetteville | D2022-LWNO-068 | Purchase propane vehicles | 280,500
OH | Stark Area Regional Transit Authority | D2022-LWNO-077 | Purchase CNG vehicles | 2,393,600
OK | Central Oklahoma Transportation and Parking Authority (COTPA), dba EMBARK | D2022-LWNO-079 | Replace diesel buses with CNG vehicles | 6,745,732

Nuria I. Fernandez,
Administrator.

[FR Doc. 2022-22256 Filed 10-12-22; 8:45 am]

BILLING CODE 4910-57-P